DEPARTMENT OF STATE

[Public Notice: 10901]

Certification Pursuant to Section 7041(f)(2) of the Department of State, Foreign Operations, and Related Programs Appropriations Act, 2019

Pursuant to section 7041 (f)(2) of the Department of State, Foreign Operations, and Related Programs Appropriations Act, 2019 (Div. F, Pub. L. 116-6) (SFOAA) and Department of State Delegation of Authority 245-2, I hereby certify that all practicable steps have been taken to ensure that mechanisms are in place for monitoring, oversight, and control of funds made available by the SFOAA for assistance for Libya.

This certification shall be published in the Federal Register and, along with the accompanying Memorandum of Justification, shall be reported to Congress.

Dated: July 19, 2019.
John J. Sullivan,
Deputy Secretary.

[FR Doc. 2019-20725 Filed 9-23-19; 8:45 am]

BILLING CODE 4710-31-P